POSTAL REGULATORY COMMISSION

[Docket Nos. CP2023-262; CP2024-7; MC2025-306; K2025-304; MC2025-307; K2025-305; MC2025-308; K2025-306; MC2025-309; K2025-307; MC2025-310; K2025-308; MC2025-311; K2025-309; MC2025-312; K2025-310; MC2025-313; K2025-311; MC2025-314; K2025-312; MC2025-315; K2025-313; MC2025-316; K2025-314; MC2025-317; K2025-315; MC2025-318; K2025-316; MC2025-319; K2025-317; MC2025-320; K2025-318; MC2025-321; K2025-319; MC2025-322; K2025-320; MC2025-323; K2025-321; MC2025-324; K2025-322; MC2025-325; K2025-323; MC2025-326; K2025-324; MC2025-327; K2025-325; MC2025-328; K2025-326; MC2025-329; K2025-327; MC2025-330; K2025-328; MC2025-331; K2025-329; MC2025-332; K2025-330; MC2025-333; K2025-331; MC2025-334; K2025-332]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: November 18, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: CP2023-262; Filing Title: Request of the United States Postal Service Concerning Modification One to Priority Mail Express International, Priority Mail International & First-Class Package International Service Contract 26, Which Includes an Extension of That Agreement; Filing Acceptance Date: November 7, 2024; Filing Authority: 39 CFR 3035.105, 39 CFR 3041.505, and 39 CFR 3041.515; Public Representative: Katalin Clendenin; Comments Due: November 18, 2024.

2. Docket No(s).: CP2024-7; Filing Title: Request of the United States Postal Service Concerning Modification One to Priority Mail Express International, Priority Mail International & First-Class Package International Service Contract 28, Which Includes an Extension of That Agreement; Filing Acceptance Date: November 7, 2024; Filing Authority: 39 CFR 3035.105, 39 CFR 3041.505, and 39 CFR 3041.515; Public Representative: Katalin Clendenin; Comments Due: November 18, 2024.

3. Docket No(s).: MC2025-306 and K2025-304; Filing Title: USPS Request to Add Priority Mail & USPS Ground Advantage Contract 439 to the Competitive Product List and Notice of Filing Materials Under Seal; Filing Acceptance Date: November 7, 2024; Filing Authority: 39 U.S.C. 3642, 39 CFR 3035.105, and 39 CFR 3041.310; Public Representative: Jennaca Upperman; Comments Due: November 18, 2024.

4. Docket No(s).: MC2025-307 and K2025-305; Filing Title: USPS Request to Add Priority Mail & USPS Ground Advantage Contract 440 to the Competitive Product List and Notice of Filing Materials Under Seal; Filing Acceptance Date: November 7, 2024; Filing Authority: 39 U.S.C. 3642, 39 CFR 3035.105, and 39 CFR 3041.310; Public Representative: Almaroof Agoro; Comments Due: November 18, 2024.

5. Docket No(s).: MC2025-308 and K2025-306; Filing Title: USPS Request to Add Priority Mail Express, Priority Mail & USPS Ground Advantage Contract 650 to the Competitive Product List and Notice of Filing Materials Under Seal; Filing Acceptance Date: November 7, 2024; Filing Authority: 39 U.S.C. 3642, 39 CFR 3035.105, and 39 CFR 3041.310; Public Representative: Almaroof Agoro; Comments Due: November 18, 2024.

6. Docket No(s).: MC2025-309 and K2025-307; Filing Title: USPS Request to Add Priority Mail Express, Priority Mail & USPS Ground Advantage Contract 651 to the Competitive Product List and Notice of Filing Materials Under Seal; Filing Acceptance Date: November 7, 2024; Filing Authority: 39 U.S.C. 3642, 39 CFR 3035.105, and 39 CFR 3041.310; Public Representative: Almaroof Agoro; Comments Due: November 18, 2024.

7. Docket No(s).: MC2025-310 and K2025-308; Filing Title: USPS Request to Add Priority Mail Express, Priority Mail & USPS Ground Advantage Contract 652 to the Competitive Product List and Notice of Filing Materials Under Seal; Filing Acceptance Date: November 7, 2024; Filing Authority: 39 U.S.C. 3642, 39 CFR 3035.105, and 39 CFR 3041.310; Public Representative: Maxine Bradley; Comments Due: November 18, 2024.

8. Docket No(s).: MC2025-311 and K2025-309; Filing Title: USPS Request to Add Priority Mail Express, Priority Mail & USPS Ground Advantage Contract 653 to the Competitive Product List and Notice of Filing Materials Under Seal; Filing Acceptance Date: November 7, 2024; Filing Authority: 39 U.S.C. 3642, 39 CFR 3035.105, and 39 CFR 3041.310; Public Representative: Maxine Bradley; Comments Due: November 18, 2024.

9. Docket No(s).: MC2025-312 and K2025-310; Filing Title: USPS Request to Add Priority Mail Express, Priority Mail & USPS Ground Advantage Contract 654 to the Competitive Product List and Notice of Filing Materials Under Seal; Filing Acceptance Date: November 7, 2024; Filing Authority: 39 U.S.C. 3642, 39 CFR 3035.105, and 39 CFR 3041.310; Public Representative: Katalin Clendenin; Comments Due: November 18, 2024.

10. Docket No(s).: MC2025-313 and K2025-311; Filing Title: USPS Request to Add Priority Mail Express, Priority Mail & USPS Ground Advantage Contract 655 to the Competitive Product List and Notice of Filing Materials Under Seal; Filing Acceptance Date: November 7, 2024; Filing Authority: 39 U.S.C. 3642, 39 CFR 3035.105, and 39 CFR 3041.310; Public Representative: Katalin Clendenin; Comments Due: November 18, 2024.

11. Docket No(s).: MC2025-314 and K2025-312; Filing Title: USPS Request to Add Priority Mail Express, Priority Mail & USPS Ground Advantage Contract 656 to the Competitive Product List and Notice of Filing Materials Under Seal; Filing Acceptance Date: November 7, 2024; Filing Authority: 39 U.S.C. 3642, 39 CFR 3035.105, and 39 CFR 3041.310; Public Representative: Maxine Bradley; Comments Due: November 18, 2024.

12. Docket No(s).: MC2025-315 and K2025-313; Filing Title: USPS Request to Add Priority Mail Express, Priority Mail & USPS Ground Advantage Contract 657 to the Competitive Product List and Notice of Filing Materials Under Seal; Filing Acceptance Date: November 7, 2024; Filing Authority: 39 U.S.C. 3642, 39 CFR 3035.105, and 39 CFR 3041.310; Public Representative: Elsie Lee-Robbins; Comments Due: November 18, 2024.

13. Docket No(s).: MC2025-316 and K2025-314; Filing Title: USPS Request to Add Priority Mail Express, Priority Mail & USPS Ground Advantage Contract 658 to the Competitive Product List and Notice of Filing Materials Under Seal; Filing Acceptance Date: November 7, 2024; Filing Authority: 39 U.S.C. 3642, 39 CFR 3035.105, and 39 CFR 3041.310; Public Representative: Kenneth Moeller; Comments Due: November 18, 2024.

14. Docket No(s).: MC2025-317 and K2025-315; Filing Title: USPS Request to Add Priority Mail Express, Priority Mail & USPS Ground Advantage Contract 659 to the Competitive Product List and Notice of Filing Materials Under Seal; Filing Acceptance Date: November 7, 2024; Filing Authority: 39 U.S.C. 3642, 39 CFR 3035.105, and 39 CFR 3041.310; Public Representative: Kenneth Moeller; Comments Due: November 18, 2024.

15. Docket No(s).: MC2025-318 and K2025-316; Filing Title: USPS Request to Add Priority Mail Express, Priority Mail & USPS Ground Advantage Contract 660 to the Competitive Product List and Notice of Filing Materials Under Seal; Filing Acceptance Date: November 7, 2024; Filing Authority: 39 U.S.C. 3642, 39 CFR 3035.105, and 39 CFR 3041.310; Public Representative: Jennaca Upperman; Comments Due: November 18, 2024.

16. Docket No(s).: MC2025-319 and K2025-317; Filing Title: USPS Request to Add Priority Mail Express, Priority Mail & USPS Ground Advantage Contract 661 to the Competitive Product List and Notice of Filing Materials Under Seal; Filing Acceptance Date: November 7, 2024; Filing Authority: 39 U.S.C. 3642, 39 CFR 3035.105, and 39 CFR 3041.310; Public Representative: Jana Slovinska; Comments Due: November 18, 2024.

17. Docket No(s).: MC2025-320 and K2025-318; Filing Title: USPS Request to Add Priority Mail Express, Priority Mail & USPS Ground Advantage Contract 662 to the Competitive Product List and Notice of Filing Materials Under Seal; Filing Acceptance Date: November 7, 2024; Filing Authority: 39 U.S.C. 3642, 39 CFR 3035.105, and 39 CFR 3041.310; Public Representative: Jana Slovinska; Comments Due: November 18, 2024.

18. Docket No(s).: MC2025-321 and K2025-319; Filing Title: USPS Request to Add Priority Mail Express, Priority Mail & USPS Ground Advantage Contract 663 to the Competitive Product List and Notice of Filing Materials Under Seal; Filing Acceptance Date: November 7, 2024; Filing Authority: 39 U.S.C. 3642, 39 CFR 3035.105, and 39 CFR 3041.310; Public Representative: Gregory Stanton; Comments Due: November 18, 2024.

19. Docket No(s).: MC2025-322 and K2025-320; Filing Title: USPS Request to Add Priority Mail Express, Priority Mail & USPS Ground Advantage Contract 664 to the Competitive Product List and Notice of Filing Materials Under Seal; Filing Acceptance Date: November 7, 2024; Filing Authority: 39 U.S.C. 3642, 39 CFR 3035.105, and 39 CFR 3041.310; Public Representative: Gregory Stanton; Comments Due: November 18, 2024.

20. Docket No(s).: MC2025-323 and K2025-321; Filing Title: USPS Request to Add Priority Mail Express, Priority Mail & USPS Ground Advantage Contract 665 to the Competitive Product List and Notice of Filing Materials Under Seal; Filing Acceptance Date: November 7, 2024; Filing Authority: 39 U.S.C. 3642, 39 CFR 3035.105, and 39 CFR 3041.310; Public Representative: Christopher Mohr; Comments Due: November 18, 2024.

21. Docket No(s).: MC2025-324 and K2025-322; Filing Title: USPS Request to Add Priority Mail Express, Priority Mail & USPS Ground Advantage Contract 666 to the Competitive Product List and Notice of Filing Materials Under Seal; Filing Acceptance Date: November 7, 2024; Filing Authority: 39 U.S.C. 3642, 39 CFR 3035.105, and 39 CFR 3041.310; Public Representative: Christopher Mohr; Comments Due: November 18, 2024.

22. Docket No(s).: MC2025-325 and K2025-323; Filing Title: USPS Request to Add Priority Mail Express, Priority Mail & USPS Ground Advantage Contract 667 to the Competitive Product List and Notice of Filing Materials Under Seal; Filing Acceptance Date: November 7, 2024; Filing Authority: 39 U.S.C. 3642, 39 CFR 3035.105, and 39 CFR 3041.310; Public Representative: Gregory Stanton; Comments Due: November 18, 2024.

23. Docket No(s).: MC2025-326 and K2025-324; Filing Title: USPS Request to Add Priority Mail Express, Priority Mail & USPS Ground Advantage Contract 668 to the Competitive Product List and Notice of Filing Materials Under Seal; Filing Acceptance Date: November 7, 2024; Filing Authority: 39 U.S.C. 3642, 39 CFR 3035.105, and 39 CFR 3041.310; Public Representative: Gregory Stanton; Comments Due: November 18, 2024.

24. Docket No(s).: MC2025-327 and K2025-325; Filing Title: USPS Request to Add Priority Mail Express, Priority Mail & USPS Ground Advantage Contract 669 to the Competitive Product List and Notice of Filing Materials Under Seal; Filing Acceptance Date: November 7, 2024; Filing Authority: 39 U.S.C. 3642, 39 CFR 3035.105, and 39 CFR 3041.310; Public Representative: Kenneth Moeller; Comments Due: November 18, 2024.

25. Docket No(s).: MC2025-328 and K2025-326; Filing Title: USPS Request to Add Priority Mail & USPS Ground Advantage Contract 441 to the Competitive Product List and Notice of Filing Materials Under Seal; Filing Acceptance Date: November 7, 2024; Filing Authority: 39 U.S.C. 3642, 39 CFR 3035.105, and 39 CFR 3041.310; Public Representative: Jennaca Upperman; Comments Due: November 18, 2024.

26. Docket No(s).: MC2025-329 and K2025-327; Filing Title: USPS Request to Add Priority Mail & USPS Ground Advantage Contract 442 to the Competitive Product List and Notice of Filing Materials Under Seal; Filing Acceptance Date: November 7, 2024; Filing Authority: 39 U.S.C. 3642, 39 CFR 3035.105, and 39 CFR 3041.310; Public Representative: Kenneth Moeller; Comments Due: November 18, 2024.

27. Docket No(s).: MC2025-330 and K2025-328; Filing Title: USPS Request to Add Priority Mail & USPS Ground Advantage Contract 443 to the Competitive Product List and Notice of Filing Materials Under Seal; Filing Acceptance Date: November 7, 2024; Filing Authority: 39 U.S.C. 3642, 39 CFR 3035.105, and 39 CFR 3041.310; Public Representative: Kenneth Moeller; Comments Due: November 18, 2024.

28. Docket No(s).: MC2025-331 and K2025-329; Filing Title: USPS Request to Add Priority Mail & USPS Ground Advantage Contract 444 to the Competitive Product List and Notice of Filing Materials Under Seal; Filing Acceptance Date: November 7, 2024; Filing Authority: 39 U.S.C. 3642, 39 CFR 3035.105, and 39 CFR 3041.310; Public Representative: Almaroof Agoro; Comments Due: November 18, 2024.

29. Docket No(s).: MC2025-332 and K2025-330; Filing Title: USPS Request to Add Priority Mail & USPS Ground Advantage Contract 445 to the Competitive Product List and Notice of Filing Materials Under Seal; Filing Acceptance Date: November 7, 2024; Filing Authority: 39 U.S.C. 3642, 39 CFR 3035.105, and 39 CFR 3041.310; Public Representative: Almaroof Agoro; Comments Due: November 18, 2024.

30. Docket No(s).: MC2025-333 and K2025-331; Filing Title: USPS Request to Add Priority Mail Express, Priority Mail & USPS Ground Advantage Contract 670 to the Competitive Product List and Notice of Filing Materials Under Seal; Filing Acceptance Date: November 7, 2024; Filing Authority: 39 U.S.C. 3642, 39 CFR 3035.105, and 39 CFR 3041.310; Public Representative: Almaroof Agoro; Comments Due: November 18, 2024.

31. Docket No(s).: MC2025-334 and K2025-332; Filing Title: USPS Request to Add Priority Mail Express, Priority Mail & USPS Ground Advantage Contract 671 to the Competitive Product List and Notice of Filing Materials Under Seal; Filing Acceptance Date: November 7, 2024; Filing Authority: 39 U.S.C. 3642, 39 CFR 3035.105, and 39 CFR 3041.310; Public Representative: Gregory Stanton; Comments Due: November 18, 2024.

III. Summary Proceeding(s)

None. See Section II for public proceedings.

This Notice will be published in the Federal Register.

Erica A. Barker,
Secretary.

[FR Doc. 2024-26632 Filed 11-14-24; 8:45 am]

BILLING CODE 7710-FW-P